DEPARTMENT OF TRANSPORTATION

Federal Aviation Administration

Receipt of Revision Number 1 to Approved Noise Compatibility Program and Request for Review for Bob Hope Airport, Burbank, CA

AGENCY: Federal Aviation Administration (FAA).

ACTION: Notice.

SUMMARY: The Federal Aviation Administration (FAA) announces that it is reviewing a proposed first revision to the approved noise compatibility program that was submitted for Bob Hope Airport (formerly known as the Burbank-Glendale-Pasadena Airport) under the provisions of 49 U.S.C. 47501 et seq. (the Aviation Safety and Noise Abatement Act, hereinafter referred to as the “the Act”) and 14 CFR part 150 by the Burbank-Glendale-Pasadena Airport Authority. This program was submitted subsequent to a determination by FAA that associated noise exposure maps submitted under 14 CFR part 150 for Bob Hope Airport were in compliance with applicable requirements, effective January 1, 2000. The noise compatibility program for Bob Hope Airport was approved by the FAA on November 27, 2000. The proposed Revision No. 1 to the approved noise compatibility program will be approved or disapproved on or before September 7, 2004.

DATES: The effective date of the start of the FAA's review of Revision No. 1 to the approved noise compatibility program is March 11, 2004. The public comment period ends May 10, 2004.

FOR FURTHER INFORMATION CONTACT: Michelle Simmons, Environmental Protection Specialist, Airports Division, AWP-611.4, Federal Aviation Administration, Western Pacific Region. Mailing address: P.O. Box 92007, Los Angeles, California 90009-2007; street address: 15000 Aviation Boulevard, Hawthorne, California 90261; telephone number 310/725-614. Comments on the proposed Revision No. 1 to the approved noise compatibility program should also be submitted to the above office.

SUPPLEMENTARY INFORMATION: This notice announces that the FAA is reviewing the proposed Revision No. 1 to the approved noise compatibility program for Bob Hope Airport (formerly known as the Burbank-Glendale-Pasadena Airport), which will be approved or disapproved on or before September 7, 2004. This notice also announces the availability of Revision No. 1 for public review and comment.

An airport operator who has submitted noise exposure maps that are found by FAA to be in compliance with the requirements of Federal Aviation Regulations (FAR) part 150, promulgated pursuant to the Act, may submit a noise compatibility program for FAA approval which sets forth the measures the operator has taken or proposes to reduce existing non-compatible uses and prevent the introduction of additional non-compatible uses.

The FAA has formally received the proposed Revision No. 1 to the approved noise compatibility program for Bob Hope Airport, effective on March 11, 2004. The airport operator has requested that the FAA review this material and that the noise mitigation measure, to be implemented jointly by the airport, be approved as a noise compatibility program under section 47504 of the Act. On November 27, 2000, the FAA approved the noise compatibility program for the Bob Hope Airport. An announcement of FAA's approval of the noise compatibility program was published in the Federal Register on December 21, 2000. Preliminary review of the submitted material for the proposed Revision No. 1 indicates that it conforms to FAR part 150 requirements for the submittal of noise compatibility programs, but that further review will be necessary prior to approval or disapproval of the program. The formal review period, limited by law to a maximum of 180 days, will be completed on or before September 7, 2004.

The FAA's detailed evaluation will be conducted under the provisions of 14 CFR part 150, § 150.33. The primary considerations in the evaluation process are whether the proposed measure may reduce the level of aviation safety or create an undue burden on interstate or foreign commerce, and whether it is reasonably consistent with obtaining the goal of reducing existing non-compatible land uses and preventing the introduction of additional non-compatible land uses.

Interested persons are invited to comment on the proposed Revision No. 1 to the approved noise compatibility program, with specific reference to these factors. All comments relating to these factors, other than those properly addressed to local land use authorities, will be considered by the FAA to the extent practicable. Copies of the noise exposure maps, the approved noise compatibility program, and the proposed Revision No. 1 are available for examination at the following locations:

Federal Aviation Administration, National Headquarters, Community Environmental Needs Division, 800 Independence Avenue, SW., Room 621, Washington, DC 20591;

Federal Aviation Administration, Western-Pacific Region, Airports Division, Room 3012, 15000 Aviation Boulevard, Hawthorne, California 90261;

Mr. Dios Marrero, Executive Director, Burbank Glendale Pasadena Airport Authority, 2627 Hollywood Way, Burbank, California 91505-9989.

Questions may be directed to the individual named above under the heading FOR FURTHER INFORMATION CONTACT.

Issued in Hawthorne, California on March 11, 2004.
Mia Paredes Ratcliff,
Acting Manager, Airports Division, Western-Pacific Region, AWP-600.

[FR Doc. 04-6157 Filed 3-18-04; 8:45 am]

BILLING CODE 4910-13-M